DEPARTMENT OF THE TREASURY

Submission for OMB Review; Comment Request

April 22, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 1, 2004, to be assured of consideration.

Internal Revenue Service (IRS)

OMB Number: 1545-0232.

Form Number: IRS Form 6497.

Type of Review: Extension.

Title: Information Return of Nontaxable Energy Grants or Subsidized Energy Financing.

Description: Form 6497 is used by any governmental agency or its agents that make nontaxable grants or subsidized financing for energy conservation or production programs. We use the information from the form to ensure that recipients have not claimed tax credits or other benefits with respect to the grant or subsidized financing (no “double dipping”).

Respondents: Business or other for-profit, Federal Government, State, local or tribal government.

Estimated Number of Respondents/Recordkeepers: 250.

Estimated Burden Hours Respondent/Recordkeeper:

Recordkeeping—2 hr., 52 min.

Learning about the law or the form—24 min.

Preparing, copying, and sending the form to the IRS—27 min.

Frequency of response: Annually.

Estimated Total Reporting/Recordkeeping Burden: 933 hours.

OMB Number: 1545-0242.

Form Number: IRS Form 6197.

Type of Review: Extension.

Title: Gas Guzzler Tax.

Description: Form 6197 is used to compute the gas guzzler tax on automobiles whose fuel economy does not meet certain standards for fuel economy. The tax is reported quarterly on Form 720. Form 6197 is filed each quarter with Form 720 for manufacturers. Individuals can make a one-time filing if they import a gas guzzler auto for personal use. The IRS uses the information to verify computation of the tax and compliance with the law.

Respondents: Business or other for-profit, Individuals or households.

Estimated Number of Respondents/Recordkeepers: 605.

Estimated Burden Hours Respondent/Recordkeeper:

Recordkeeping—4 hr., 18 min.

Learning about the law or the form—12 min.

Preparing and sending the form to the IRS—16 min.

Frequency of response: Quarterly, Annually.

Estimated Total Reporting/Recordkeeping Burden: 2,892 hours.

OMB Number: 1545-0763.

Regulation Project Number: LR-200-76 Final.

Type of Review: Extension.

Title: Qualified Conservation Contributions.

Description: The information is necessary to comply with various substantive requirements of section 170(h), which describes situations in which a taxpayer is entitled to an income tax deduction for a charitable contribution for conversation purposes of a partial interest in real property.

Respondents: Business or other for-profit, Individuals or households, Not-for-profit institutions, Farms, Federal Government, State, local or tribal government.

Estimated Number of Recordkeepers: 1,000.

Estimated Burden Hours Recordkeeper: 1 hour, 15 minutes.

Estimated Total Reporting/Recordkeeping Burden: 1,250 hours.

OMB Number: 1545-1117.

Notice Number: Notice 89-61.

Type of Review: Extension.

Title: Imported Substances; Rules for Filing a Petition.

Description: The notice sets forth procedures to be followed in petitioning the Secretary to modify the list of taxable substances in section 4672(a)(3).

Respondents: Business or other for-profit .

Estimated Number of Respondents: 100.

Estimated Burden Hours Respondent: 1 hour.

Estimated Total Reporting Burden: 100 hours.

OMB Number: 1545-1574.

Form Number: IRS Form 1098-T.

Type of Review: Extension.

Title: Tuition Payments Statement.

Description: Section 6050S of the Internal Revenue Code require eligible education institutions to report certain information regarding tuition payments to the IRS and to students. Form 1098-T has been developed to meet this requirement.

Respondents: Business or other for-profit, Not-for-profit institutions.

Estimated Number of Respondents/Recordkeepers: 7,000.

Estimated Burden Hours Respondent/Recordkeeper: 13 minutes.

Frequency of response: Annually.

Estimated Total Reporting/Recordkeeping Burden: 4,848,090 hours.

OMB Number: 1545-1578.

Regulation Project Number: REG-106542-98 Final.

Type of Review: Extension.

Title: Election to Treat Trust as Part of an Estate.

Description: REG-106542-98 and Revenue Procedure 98-13 relate to an election to have certain revocable trusts treated and taxed as part of an estate, and provides procedures and requirements for making the section 645 election.

Respondents: Individuals or households .

Estimated Number of Respondents: 10,000.

Estimated Burden Hours Respondent: 30 minutes.

Frequency of response: Other (once).

Estimated Total Reporting Burden: 5,000 hours.

OMB Number: 1545-1721.

Form Number: IRS Form 8875.

Type of Review: Extension.

Title: Taxable REIT Subsidiary Election.

Description: A corporation and a REIT use Form 8875 to jointly elect to have the corporation treated as a taxable REIT subsidiary as provided in section 856(l).

Respondents: Business or other for-profit.

Estimated Number of Respondents/Recordkeepers: 1,000.

Estimated Burden Hours Respondent/Recordkeeper:

Recordkeeping—6 hr., 56 min.

Learning about the law or the form—18 min.

Preparing, and sending the form to the IRS—25 min.

Frequency of response: Other (one-time).

Estimated Total Reporting/Recordkeeping Burden: 7,660 hours.

Clearance Officer: Glenn P. Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-9816 Filed 4-29-04; 8:45 am]

BILLING CODE 4830-01-P